DEPARTMENT OF TRANSPORTATION

Federal Aviation Administration

14 CFR Part 39

[Docket No. FAA-2007-0180; Directorate Identifier 2007-SW-37-AD; Amendment 39-15265; AD 2007-19-53]

RIN 2120-AA64

Airworthiness Directives; Bell Helicopter Textron, Inc. Model 204B, 205A, 205A-1, 205B, 210, 212, 412, 412EP, and 412CF Helicopters

AGENCY: Federal Aviation Administration, DOT.

ACTION: Final rule; request for comments.

SUMMARY: This document publishes in the Federal Register an amendment adopting Airworthiness Directive (AD) 2007-19-53, which was sent previously to all known U.S. owners and operators of the specified Bell Helicopter Textron, Inc. (BHTI) model helicopters by individual letters. This AD requires replacing each affected tail rotor blade (blade) with an airworthy blade with a serial number not listed in the applicability of this AD. This AD is prompted by three incidents in which blade tip weights were slung from the blades during flight causing significant vibration. The actions specified by this AD are intended to prevent loss of a blade tip weight, loss of a blade, and subsequent loss of control of the helicopter.

DATES: Effective December 5, 2007, to all persons except those persons to whom it was made immediately effective by Emergency AD 2007-19-53, issued on September 14, 2007, which contained the requirements of this amendment.

Comments for inclusion in the Rules Docket must be received on or before January 22, 2008.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron Canada, 12,800 Rue de l'Avenir, Mirabel, Quebec J7J1R4, telephone (450) 437-2862 or (800) 363-8023, fax (450) 433-0272.

EXAMINING THE DOCKET: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION: On September 14, 2007, the FAA issued Emergency AD 2007-19-53 for the specified model helicopters, which requires replacing each affected part-numbered and serial-numbered blade with an airworthy blade with a serial number not listed in the applicability of this AD. That action was prompted by three incidents in which blade tip weights were slung from the blades during flight causing significant vibration. The failures have occurred on blades being returned to service from Rotor Blades, Inc. (RBI), from as short as 12 minutes since repair to as long as 400 hours time-in-service. An investigation indicates that the tip weights were missing the adhesive that should have been applied during the weight-and-balance process on these blades. This condition, if not corrected, could result in loss of a blade tip weight, loss of a blade, and subsequent loss of control of the helicopter.

BHTI has issued the following Alert Service Bulletins (ASB):

• No. 204-07-61 for BHTI Model 204 helicopters,

• No. 205-07-95 for BHTI Model 205 helicopters,

• No. 205B-07-46 for BHTI Model 205B helicopters,

• No. 212-07-125 for BHTI Model 212 helicopters, and

• No. 412-07-123 for BHTI Model 412 helicopters.

All the ASBs are dated September 11, 2007, and contain a letter from RBI indicating certain blades processed by RBI may be missing the adhesive applied to the tip weight screws during the weight and balance process. Emergency AD 2007-19-53 had the Model 230 helicopters incorrectly linked to ASB No. 412-07-123; that ASB is for Model 412 helicopters. We have made that correction in this AD and determined that this change will neither increase the economic burden on any operator nor increase the scope of the AD.

Since the unsafe condition described is likely to exist or develop on other specified BHTI model helicopters of these same type designs, the FAA issued Emergency AD 2007-19-53 to prevent loss of a blade tip weight, loss of a blade, and subsequent loss of control of the helicopter. The AD requires replacing each affected blade with an airworthy blade. The short compliance time involved is required because the previously described critical unsafe condition can adversely affect the controllability or structural integrity of the helicopter. Therefore, replacing each affected blade with an airworthy blade is required before further flight, and this AD must be issued immediately.

Since it was found that immediate corrective action was required, notice and opportunity for prior public comment thereon were impracticable and contrary to the public interest, and good cause existed to make the AD effective immediately by individual letters issued on September 14, 2007, to all known U.S. owners and operators of the specified BHTI model helicopters. These conditions still exist, and the AD is hereby published in the Federal Register as an amendment to 14 CFR 39.13 to make it effective to all persons.

The FAA estimates that this AD will affect 1013 helicopters of U.S. registry, and it will take about 2 hours to determine if a blade is affected per helicopter at an average labor rate of $80 per work hour. The ASB contains a warranty statement that owners or operators of Bell helicopters who comply with the instructions in the ASB will be eligible to return defective blades identified by serial number in the compliance section to their nearest RBI facility for inspection and repair at no cost. Based on these figures, we estimate the total cost impact of the AD on U.S. operators to be $162,080, assuming all shipping inspection and repair costs are paid by RBI or Bell.

Comments Invited

This AD is a final rule that involves requirements that affect flight safety and was not preceded by notice and an opportunity for public comment; however, we invite you to submit any written data, views, or arguments regarding this AD. Send your comments to an address listed under ADDRESSES. Include “Docket No. FAA-2007-0180; Directorate Identifier 2007-SW-37-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2007-19-53 Bell Helicopter Textron, Inc.: Amendment 39-15265. Docket No. FAA-2007-0180; Directorate Identifier 2007-SW-37-D.

Applicability: Model 204B, 205A, 205A-1, 205B, 210, 212, 412, 412EP, and 412CF helicopters, with a tail rotor blade (blade), having a part and serial number as listed in the following table, installed, certificated in any category.

Part No. | Serial No.
204-011-702-015 | AFS-12703, AFS-12893, AFS-23525, or AFS-23573.
204-011-702-121 | A-22020.
212-010-750-105FM | A-10090, A-10836, A-11207, or A-11332.
212-010-750-113 | A-14953, A15090, or CS-12702.
212-010-750-113FM | A-12240, A-12296, A-12640, A-12670, A-12789, A-13033, A-13096, A-13134, A-13199, A-13264, or A-13366.
212-010-750-133 | A15602.

Compliance: Required as indicated, unless accomplished previously.

To prevent loss of the blade tip weight, loss of a blade, and subsequent loss of control of the helicopter do the following:

(a) Before further flight, replace any affected blade with an airworthy blade with a serial number not listed in the applicability section of this AD.

(b) To request a different method of compliance or a different compliance time for this AD, follow the procedures in 14 CFR 39.19. Contact the Manager, Rotorcraft Certification Office, FAA, ATTN: Michael Kohner, Aviation Safety Engineer, Fort Worth, Texas 76193-0170, telephone (817) 222-5447, fax (817) 222-5783, for information about previously approved alternative methods of compliance.

(c) Special flight permits will not be issued.

(d) This amendment becomes effective on December 5, 2007, to all persons except those persons to whom it was made immediately effective by Emergency AD 2007-19-53, issued September 14, 2007, which contained the requirements of this amendment.

Issued in Fort Worth, Texas, on October 31, 2007.
David A. Downey,
Manager, Rotorcraft Directorate, Aircraft Certification Service.

[FR Doc. E7-22439 Filed 11-19-07; 8:45 am]

BILLING CODE 4910-13-P